DEPARTMENT OF HOMELAND SECURITY

Federal Emergency Management Agency

44 CFR Part 67

[Docket No. FEMA-B-1003]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 8, 2008.

ADDRESSES: The corresponding preliminary Flood Insurance Rate Map (FIRM) for the proposed BFEs for each community are available for inspection at the community's map repository. The respective addresses are listed in the table below.

You may submit comments, identified by Docket No. FEMA-B-1003, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or.(email) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Hunterdon County, New Jersey, and Incorporated Areas
Back Brook | Upstream of Van Lieu's Rd | +117 | +119 | Township of East Amwell.
| Upstream of Route 179 | +193 | +195
First Neshanic River | Downstream of U.S. Route 202 | +147 | +148 | Township of Raritan.
| Upstream of Railroad | +154 | +160
Holland Brook | Downstream of Hillcrest/Centerville Rd | +99 | +101 | Township of Readington.
| Upstream of Holland Brook Rd | +148 | +148
Neshanic River | Downstream of Rainbow Hill Rd | +106 | +104 | Township of East Amwell.
| Downstream of Old York Rd | +120 | +125
Neshanic River | Upstream of Everitt Rd | +123 | +128 | Township of Raritan.
| Downstream of Kuhl Rd | +135 | +137
Second Neshanic River | Upstream of U.S. Route 202 | +141 | +143 | Township of Raritan.
| Upstream of Joanna Farm Rd | +171 | +172
South Branch Raritan River | Downstream of Old York Rd | +97 | +97 | Township of Raritan.
| Downstream of Railroad | +106 | +107
South Branch Raritan River | Upstream of Higginsville Rd | +92 | +92 | Township of Readington.
| Downstream of Rockafellows Mills Rd | +104 | +104
Third Neshanic River | Downstream of U.S. Route 202 | +137 | +140 | Township of Raritan.
| Upstream of Everitt Rd | +149 | +152
Walnut Brook | Upstream of Railroad | +154 | +160 | Township of Raritan.
| Upstream of Mine Rd | +189 | +191
Walnut Brook | Upstream of Corporate Limits | +167 | +170 | Borough of Flemington.
| Upstream State Route 12 | +179 | +180
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Borough of Flemington
Maps are available for inspection at Borough Hall, 38 Park Avenue, Flemington, NJ 08822.
Township of East Amwell
Maps are available for inspection at Municipal Building, 1070 Route 202/31, Ringoes, NJ 08551-1051.
Township of Raritan
Maps are available for inspection at Municipal Building, One Municipal Drive, Flemington, NJ 08822.
Township of Readington
Maps are available for inspection at Municipal Building, 509 Route 523, Whitehouse Station, NJ 08889.
Transylvania County, North Carolina, and Incorporated Areas
Allison Creek | Approximately 450 feet upstream of the confluence with Lamb Creek | +2115 | +2116 | Unincorporated Areas of Transylvania County, City of Brevard.
| Approximately 1,100 feet upstream of Camp Straus Road | +2189 | +2187
Davidson River Tributary 1 | At the confluence with Davidson River | +2108 | +2109 | Unincorporated Areas of Transylvania County, City of Brevard.
| Approximately 1,440 feet upstream of Ecusta Road | +2138 | +2144
Lime Kiln Creek | Approximately 0.6 mile upstream of the confluence with French Broad River | +2149 | +2150 | Unincorporated Areas of Transylvania County.
| Approximately 750 feet upstream of Ross Road (State Road 1334) | +2211 | +2213
Mason Creek | Approximately 50 feet upstream of Whitmire Road (State Road 1128) | +2158 | +2159 | Unincorporated Areas of Transylvania County.
| Approximately 0.4 mile upstream of Cherryfield Loop (State Road 1392) | +2209 | +2227
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Brevard
Maps are available for inspection at City of Brevard Planning Department, 95 West Main Street, Brevard, NC.
Unincorporated Areas of Transylvania County
Maps are available for inspection at Transylvania County Inspections Department, 98 East Morgan Street, Brevard, NC.
Crockett County, Tennessee, and Incorporated Areas
South Fork of Forked Deer River | At the Crockett/Madison/Haywood county boundary | None | +319 | Unincorporated Areas of Crockett County.
| Approximately 1,365 feet upstream of the confluence with Connley Creek (At the Crockett/Madison county boundary) | None | +324
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Crockett County
Maps are available for inspection at 1 S. Bell Street, Courthouse, Alamo, TN 38001.
Dickson County, Tennessee, and Incorporated Areas
East Piney River | At the confluence of Piney River | None | +584 | Unincorporated Areas of Dickson County, City of Dickson.
| Approximately 3,400 feet upstream of the confluence of Willow Branch | None | +696
Fivemile Creek | Approximately 2,700 feet downstream of County Highway 1847 | None | +548 | Unincorporated Areas of Dickson County, Town of White Bluff.
| Approximately 3,370 feet upstream of County Highway 1847 | None | +584
Piney River | At the confluence with East Piney River | None | +584 | Unincorporated Areas of Dickson County.
| Approximately 200 feet upstream of County Road 1858 | None | +629
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Dickson
Maps are available for inspection at Director of Planning and Zoning, 200 Center Avenue, Dickson, TN 37055.
Town of White Bluff
Maps are available for inspection at 1016 Taylor Town Road, White Bluff, TN 37187.
Unincorporated Areas of Dickson County
Maps are available for inspection at Director of Planning and Zoning, 2 Court Square, Charlotte, TN 37036.
Humphreys County, Tennessee, and Incorporated Areas
Kentucky Lake (Tennessee River) | At the Humphreys/Perry/Benton county boundary | None | +375 | Humphreys County, City of New Johnsonville.
| At the Humphreys/Houston/Benton county boundary | None | +375
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of New Johnsonville
Maps are available for inspection at City Hall, 323 Long Street, New Johnsonville, TN 37134.
Humphreys County
Maps are available for inspection at Chamber of Commerce, 124 E. Main Street, Waverly, TN 37185.

(Catalog of Federal Domestic Assistance No. 97.022, “Flood Insurance.”)

Dated: August 26, 2008.
Michael K. Buckley,
Deputy Assistant Administrator for Mitigation, Department of Homeland Security, Federal Emergency Management Agency.

[FR Doc. E8-20822 Filed 9-8-08; 8:45 am]

BILLING CODE 9110-12-P